DEPARTMENT OF ENERGY

Federal Energy Regulatory Commission

[Docket No. CP10-480-000]

Central New York Oil and Gas Company LLC; Notice of Filing

August 19, 2010.

Take notice that on August 9, 2010, Central New York Oil and Gas Company LLC (CNYOG), Two Brush Creek Boulevard, Suite 200, Kansas City, MO 64112, filed an application, pursuant to Section 7(c) of the Natural Gas Act (NGA) and Parts 157 and 284 of the Commission's Rules and Regulations for a certificate of public convenience and necessity authorizing CNYOG to construct and operate certain facilities in Bradford, Sullivan, and Lycoming Counties, Pennsylvania, to provide open-access firm and interruptible transportation service (MARC I Project). The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

CNYOG proposes: (i) To construct and operate an approximately 39-mile long, 30-inch diameter pipeline between interconnects with interstate pipeline facilities of Tennessee Gas Pipeline Company (TGP) and Transcontinental Gas Pipe Line Company (Transco) in Bradford and Lycoming Counties, Pennsylvania, respectively; (ii) to construct and operate a new compression facility with 16,360 hp of gas-fired compression (M1-S) in Sullivan County, Pennsylvania, and an additional compressor unit (M1-N) with 15,300 hp of electric-powered compression in Bradford County, Pennsylvania; and (iii) appurtenant facilities. CNYOG states that it has received executed Precedent Agreements for commitments to firm transportation capacity of 550,000 Dth/day. CNYOG proposes to place the MARC I Project in service by July 1, 2012.

Any questions regarding the application are to be directed to William F. Demarest, Jr., Husch Blackwell Sanders LLP, 750 17th St., NW., Suite 1000, Washington, DC 20006; phone number (202) 378-2300 or by e-mail at william.demarest@huschblackwell.com.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit original and 7 copies of filings made with the Commission and must mail a copy to the applicant and to every other party in the proceeding. Only parties to the proceeding can ask for court review of Commission orders in the proceeding.

Motions to intervene, protests and comments may be filed electronically via the Internet in lieu of paper, see 18 CFR 385.2001(a)(1)(iii) and the instructions on the Commission's Web site under the “e-Filing” link. The Commission strongly encourages electronic filings.

Comment Date: September 9, 2010.

Kimberly D. Bose,
Secretary.

[FR Doc. 2010-21164 Filed 8-25-10; 8:45 am]

BILLING CODE 6717-01-P